NUCLEAR REGULATORY COMMISSION

10 CFR Part 30

RIN 3150-AH06

Security Requirements for Portable Gauges Containing Byproduct Material

AGENCY: Nuclear Regulatory Commission.

ACTION: Proposed rule.

SUMMARY: The Nuclear Regulatory Commission (NRC) is proposing to amend its regulations governing the use of byproduct material in specifically licensed portable gauges. The proposed rule would require a portable gauge licensee to provide a minimum of two independent physical controls that form tangible barriers to secure portable gauges from unauthorized removal whenever the portable gauges are not under the control and constant surveillance of the licensee.

DATES: The comment period expires October 15, 2003. Comments received after this date will be considered if it is practical to do so, but the NRC is able to assure consideration only for comments received on or before this date.

ADDRESSES: You may submit comments by any one of the following methods. Please include the following number (RIN 3150-AH06) in the subject line of your comments. Comments on rulemaking submitted in writing or in electronic form will be made available to the public in their entirety on the NRC rulemaking Web site. Personal information will not be removed from your comments.

Mail comments to: Secretary, U.S. Nuclear Regulatory Commission, Washington, DC 20555-0001, Attn: Rulemakings and Adjudications Staff.

E-mail comments to: SECY@nrc.gov. If you do not receive a reply e-mail confirming that we have received your comments, contact us directly at (301) 415-1966. You may also submit comments via the NRC's rulemaking website at http://ruleforum.llnl.gov. Address questions about our rulemaking website to Carol Gallagher at (301) 415-5905; e-mail cag@nrc.gov.

Hand deliver comments to 11555 Rockville Pike, Rockville, Maryland 20852, between 7:30 a.m. and 4:15 p.m. Federal workdays. (Telephone: (301) 415-1966).

Fax comments to: Secretary, U.S. Nuclear Regulatory Commission at (301) 415-1101.

Publicly available documents related to this rulemaking may be examined and copied for a fee at the NRC's Public Document Room (PDR), Public File Area O1F21, One White Flint North, 11555 Rockville Pike, Rockville, Maryland. Selected documents, including comments, can be reviewed and downloaded electronically via the NRC rulemaking website at http://ruleforum.llnl.gov.

Publicly available documents created or received at the NRC after November 1, 1999, are available electronically at the NRC's Electronic Reading Room at http://www.nrc.gov/NRC/ADAMS/index.html. From this site, the public can gain entry into the NRC's Agencywide Document Access and Management System (ADAMS), which provides text and image files of NRC's public documents. If you do not have access to ADAMS or if there are problems in accessing the documents located in ADAMS, contact the NRC's PDR Reference staff at 1-800-397-4209, 301-415-4737 or by e-mail to pdr@nrc.gov.

FOR FURTHER INFORMATION CONTACT: Lydia Chang, Office of Nuclear Material Safety and Safeguards, U.S. Nuclear Regulatory Commission, Washington, DC 20555-0001, telephone (301) 415-6319, e-mail lwc1@nrc.gov.

SUPPLEMENTARY INFORMATION:

Background

Uses of Licensed Material in Portable Gauges

Portable gauges are devices containing licensed material that are used to determine physical properties (such as density and moisture content of soil, concrete, and other materials) in a field setting. The most typical portable gauges in use today contain two encapsulated sources of radioactive materials. The first is a sealed gamma source containing 0.30 to 0.37 gigabecquerels (8 to10 millicuries) of cesium-137 (Cs-137) used to measure density. The second source is a sealed neutron source containing 1.48 to 1.85 gigabecquerels (40 to 50 millicuries) of americium-241/beryllium (Am-241/Be) used to measure moisture content. Other radioactive materials have also been used in portable gauges. Under the Atomic Energy Act of 1954, as amended, NRC regulates byproduct, source, and special nuclear material used in portable gauges. NRC does not, however, regulate naturally occurring radioactive material such as radium-226 (Ra-226) used in portable gauges because it is not a byproduct, source, or special nuclear material. Gauges containing Ra-226 may be regulated by individual States.

Portable gauges are of many different designs based on their intended use. Two basic methods of measuring the property of materials with these gauges are direct transmission and backscatter. For the direct transmission method, the source is located on a source rod. When the gauge is in use, the rod is extended and inserted beneath the surface material through an access hole. Radiation emitted by the source beneath the surface material is measured by a detector in the base of the gauge. For the backscatter method, both the source and the detector remain on top of the surface material to be tested. Radiation is directed into the surface and some is reflected back to the gauge detector by the surface material.

When not in use, portable gauges are generally stored in a permanent storage location within a licensed facility. However, portable gauges are often also stored at a temporary jobsite if the job requires more than one day. When transporting a portable gauge from a licensed facility to a temporary jobsite in a vehicle, the gauge is often placed in a transportation case, and then is secured in or onto the vehicle. Sometimes, portable gauges are stored at a temporary storage location or on a vehicle.

NRC and Agreement States Licenses

As authorized by section 274(b) of the Atomic Energy Act of 1954, as amended, 32 States have assumed responsibility for regulating certain activities related to radioactive material by entering into agreements with the NRC. The activities regulated by these “Agreement States” include the use of byproduct material in portable gauges. Each Agreement State issues licenses to persons who use radioactive material in portable gauges in that State. The NRC issues licenses to persons using radioactive material in portable gauges in non-Agreement States. Requirements that are specific to the safe use of portable gauges are included as license conditions.

NRC and Agreement States issue specific licenses and certain general licenses. General licenses do not include an individual license document, and usually authorize only small quantities of licensed material. The subject of this rulemaking is for portable gauges that are specifically licensed. There are approximately 1100 NRC portable gauge specific licensees and an additional 4000 Agreement State specific licensees. Portable gauge licensees often possess multiple portable gauges under the same license, and may conduct business outside of their home States under the reciprocity provisions of 10 CFR 150.20 or equivalent Agreement State regulations. There are an estimated 22,000 to 25,000 portable gauges in use in the United States.

Current Regulatory Practices

Specific licenses for portable gauges are governed by NRC regulations in 10 CFR Part 30, “Rules of General Applicability to Domestic Licensing of Byproduct Material.” However, other NRC requirements in 10 CFR parts 2, 19, 20, 21, 71, 150, 170, and 171 also apply to a portable gauge licensee. In addition, all such portable gauge licensees must also comply with other applicable Federal, State, and local regulations (e.g., Department of Transportation (DOT) regulations, local zoning requirements for a storage location, etc.). At present, NRC reviews a licensee's program as described in the license application, and incorporates certain requirements into the license as license conditions. Equivalent State regulations apply to Agreement State portable gauge licensees. Agreement States follow a similar approach. In addition, certain Agreement States, such as Florida, have specific additional requirements in their regulations for the possession and use of sealed sources in portable gauges. Other States, including Texas and Washington, have issued orders imposing specific additional requirements for their portable gauge licensees.

Storage and Control of Licensed Material

NRC regulations in 10 CFR part 20, “Standards for Protection Against Radiation,” contain requirements applicable to activities conducted under licenses issued by the NRC. Subpart I of Part 20 addresses storage and control of licensed material. Specifically, § 20.1801, “Security of stored material,” requires licensees to secure from unauthorized removal or access licensed materials that are stored in controlled or unrestricted areas. Section 20.1802, “Control of material not in storage,” requires licensees to control and maintain constant surveillance of licensed material that is in a controlled or unrestricted area and that is not in storage. Despite these requirements, theft of portable gauges, as described below, continues.

Theft of Portable Gauges

Reports in the NRC's Nuclear Materials Events Database (NMED) reveal that there have been approximately 450 gauges stolen since 1990. More than two-thirds of these stolen gauges were taken from vehicles while parked at locations other than the licensees' storage facilities or temporary jobsites. In most of these incidents, the gauge was in a DOT “Type A” transportation case, which was then secured with a metal chain to the open bed of a pickup truck. Frequently, the chain was cut and the gauge was stolen along with its transportation case. The remaining one-third of the gauges were stolen from a licensed facility or a temporary jobsite, stolen along with a vehicle, or taken by a disgruntled employee.

It is true that the number of incidents reported per year is small when compared to the total number of gauges in use, that the amount of radioactive material used in a portable gauge is relatively small, and that the radioactive material is encapsulated in stainless steel. Nevertheless, the theft of portable gauges still poses a concern if the gauge is abandoned in the environment, is recycled in a steel mill, or is used inappropriately.

In light of these concerns, NRC has issued several “Information Notices” (IN-2001-11, IN-98-01, IN-93-18, IN-88-02, IN-87-55, and IN-86-67) to remind licensees of their responsibilities concerning the security of portable gauges. However, the yearly number of reported incidents has not significantly decreased in response to these notices and the potential still exists for public health and safety risks. In addition, given the heightened sensitivity following the events of September 11, 2001, it is necessary to enhance security for portable gauges by reducing the opportunity for theft. Therefore, NRC is proposing additional security requirements for specifically licensed portable gauges in addition to the general requirements for security and control of licensed material in 10 CFR 20.1801 and 20.1802. A working group was formed in August 2002 to explore various options and requirements for the rulemaking. Personnel from the Agreement States of Florida and Arkansas represented the Organization of Agreement States and participated as members of the working group along with NRC staff in formulating this proposed rule. The proposed rule language was coordinated with DOT hazardous material transportation staff due to the intrinsic portability (i.e., transportation) of the portable gauge during the course of its utilization by licensees.

Discussion of Proposed Amendment

NRC is proposing to amend its regulations in § 30.34, Terms and conditions of licenses, to impose specific security requirements for portable gauges to reduce the opportunity for theft. Specifically, NRC proposes revising this section by adding § 30.34(i) to the list of terms and conditions of licenses issued pursuant to 10 CFR part 30, “Rules of General Applicability to Domestic Licensing of Byproduct Material.” This paragraph would require persons using portable gauges under specific licenses to use a minimum of two independent physical controls that form tangible barriers to secure portable gauges from unauthorized removal, whenever portable gauges are not under the control and constant surveillance of the licensee.

This rule would apply to a licensee with a portable gauge regardless of the location, situation, and activities involving the portable gauge. At all times, the licensee would be required to either maintain control and constant surveillance of the portable gauge or use a minimum of two independent physical controls to secure the portable gauge. The NRC staff expects that the physical controls would be designed and constructed of material suitable for securing the gauges from unauthorized removal. In addition, the NRC staff's expectation is that both of these controls must be defeated for the portable gauge to be removed to deter a theft by requiring a more determined effort to remove the gauge.

Securing a Portable Gauge at a Licensed Facility

Long term storage of a portable gauge is usually at a permanent facility listed in the license or license application. Routine storage of a portable gauge in a vehicle or at temporary or permanent residential quarters is usually reviewed and may be authorized by NRC or the applicable Agreement State during the licensing process. Under the proposed regulation, when a portable gauge is stored at a licensed facility, the licensee would be specifically required to use a minimum of two independent physical controls to secure the gauge. Examples of two independent physical controls to secure a portable gauge when stored at a licensed facility are—

1. The portable gauge or transportation case containing the portable gauge is stored inside a locked storage shed within a secured outdoor area, such as a fenced parking area with a locked gate;

2. The portable gauge or transportation case containing the portable gauge is stored in a room with a locked door within a secured building for which the licensee controls access by lock and key or by a security guard;

3. The portable gauge or transportation case containing the portable gauge is stored inside a locked, non-portable cabinet inside a room with a locked door if the building is not secured;

4. The portable gauge or transportation case containing the portable gauge is stored in a separate secured area inside a secured mini-warehouse or storage facility; or

5. The portable gauge or transportation case containing the portable gauge is physically secured to the inside structure of a secured mini-warehouse or storage facility.

Securing a Portable Gauge in a Vehicle

Licensees commonly use a chain and a padlock to secure a portable gauge in its transportation case to the open bed of a pickup truck while using the vehicle for storage. Because the transportation case is portable, a theft could occur if the chain is cut and the transportation case with the portable gauge in it is taken. If the licensee simply loops the chain through the handles of the transportation case, a thief could open the transportation case and take the portable gauge without removing the chain or the case. Because the transportation case is also portable, it must be protected by two independent physical controls if the portable gauge is inside. A lock on the transportation case or a lock on the portable gauge source rod handle would not be sufficient under the proposed requirements because the case and the gauge are portable.

A vehicle should be used for storage only for a short period of time when a gauge is in transit. A portable gauge should only be kept in a vehicle overnight if it is not practicable to provide temporary storage in a permanent structure. Under the proposed regulation, when a portable gauge is being stored in a vehicle, the licensee would be specifically required to use a minimum of two independent physical controls to secure the gauge. Examples of two such independent physical controls to secure portable gauges in these situations are—

1. The locked transportation case containing the portable gauge is physically secured to a vehicle with brackets, and a chain or steel cable (attached to the vehicle) is wrapped around the transportation case such that the case can not be opened unless the chain or cable is removed. In this example, the locked transportation case would count as one control because the brackets would prevent easy removal of the case. The chain or cable looped only through the transportation case handle is not acceptable;

2. The portable gauge or transportation case containing the portable gauge is stored in a box physically attached to a vehicle, and the box is secured with (1) two independent locks; (2) two separate chains or steel cables attached independently to the vehicle in such a manner that the box cannot be opened without the removal of the chains or cables; or (3) one lock and one chain or steel cable is attached to the vehicle in such a manner that the box cannot be opened without the removal of the chain or cable; or

3. The portable gauge or transportation case containing the portable gauge is stored in a locked trunk, camper shell, van, or other similar enclosure and is physically secured to the vehicle by a chain or steel cable in such a manner that one would not be able to open the case or remove the portable gauge without removal of the chain or cable. In this example, the transportation case would not count as one control because it could be easily removed.

Securing a Portable Gauge at a Temporary Jobsite or at Locations Other Than a Licensed Facility

When a job requires storage of a portable gauge at a temporary jobsite or at a location other than a licensed facility, the licensee should use a permanent structure for storage if practicable to do so. When storing a portable gauge in temporary or permanent residential quarters, the licensee should limit access by storing the gauge in a separate room away from residents and other members of the public. The licensee must also meet the radiation exposure limits specified in 10 CFR part 20.

Under the proposed regulation, when a portable gauge is stored at a temporary jobsite or at a location other than an authorized facility, the licensee would also be required to use a minimum of two independent physical controls to secure the gauge. Examples of two independent physical controls to secure portable gauges at these locations are—

1. At a temporary job site, the portable gauge or transportation case containing the portable gauge is stored inside a locked building or in a locked non-portable structure (e.g., construction trailer, sea container, etc.), and is physically secured by a chain or steel cable to a non-portable structure in such a manner that an individual would not be able to open the transportation case or remove the portable gauge without removing the chain or cable. A lock on the transportation case or a lock on the portable gauge source rod handle would not be sufficient because the case and the gauge are portable;

2. The portable gauge or transportation case containing the portable gauge is stored inside a locked room within temporary or permanent residential quarters, and is physically secured by a chain or steel cable to a permanent or non-portable structure (e.g., large metal drain pipe, support column, etc.) such that an individual would not be able to open the transportation case or remove the portable gauge without removing the chain or cable;

3. The portable gauge or transportation case containing the portable gauge is stored in a locked garage, and is within a locked vehicle or is physically secured by a chain or steel cable to the vehicle in such a manner that an individual would not be able to open the transportation case or remove the portable gauge without removing the chain or cable; or

4. The portable gauge or transportation case containing the portable gauge is stored in a locked garage, and is within a locked enclosure or is physically secured by a chain or steel cable to a permanent or non-portable structure in such a manner that an individual would not be able to open the transportation case or remove the portable gauge without removing the chain or cable.

Controlling and Maintaining Constant Surveillance of a Portable Gauge

Under the proposed regulation, when a portable gauge is not secured with a minimum of two independent physical controls, the licensee would be required to control and maintain constant surveillance of the gauge. This proposed rule would more specifically address the current requirements in 10 CFR 20.1801 for security, and satisfy the requirements of 10 CFR 20.1802, which states that the licensee shall control and maintain constant surveillance of licensed material that is in a controlled or unrestricted area and that is not in storage. Control and constant surveillance is required when the gauge is not in storage, e.g., is in use or undergoing maintenance. The NRC staff interprets “control and maintain constant surveillance” of portable gauges to mean being immediately present or remaining in close proximity to the portable gauge so as to be able to prevent unauthorized removal of the gauge.

Criminal Penalties

For the purpose of Section 223 of the Atomic Energy Act (AEA), the Commission is proposing to amend 10 CFR Part 30 under one or more of Sections 161b, 161i, or 161o of the AEA. Willful violations of the rule would be subject to criminal enforcement.

Agreement State Compatibility

Under the “Policy Statement on Adequacy and Compatibility of Agreement State Programs” approved by the Commission on June 30, 1997, and published in the Federal Register on September 3, 1997 (62 FR 46517), this proposed rule would be a matter of compatibility between the NRC and the Agreement States, thereby providing consistency among the Agreement State and NRC requirements. The NRC staff analyzed the proposed rule in accordance with the procedure established within Part III, “Categorization Process for NRC Program Elements,” of Handbook 5.9 to Management Directive 5.9, “Adequacy and Compatibility of Agreement State Programs” (a copy of which may be viewed at http://www.hsrd.ornl.gov/nrc/home.html). The NRC staff has determined that proposed 10 CFR 30.34(i) is classified as Compatibility Category “C.” An Agreement State should adopt the essential objectives of the Compatibility Category “C” program elements to avoid conflict, duplication, gaps, or the conditions that would jeopardize an orderly pattern in the regulation of agreement material on a nationwide basis.

The NRC determined that the essential objective of proposed 10 CFR 30.34(i) is to reduce the opportunity for theft of a portable gauge by requiring a portable gauge licensee to provide a minimum of two independent physical controls that form tangible barriers to secure portable gauges from unauthorized removal whenever portable gauges are not under the control and constant surveillance of the licensee.

The NRC believes that the proposed rule does not conflict with any existing State regulatory requirement. Personnel from Agreement States of Florida and Arkansas represented the Organization of Agreement States and participated as members of a working group along with NRC staff in the development of this proposed rule.

Plain Language

The Presidential Memorandum dated June 1, 1998, entitled “Plain Language in Government Writing,” directed that the Government's writing be in plain language. This memorandum was published June 10, 1998 (63 FR 31883). The NRC requests comments on this proposed rule specifically with respect to the clarity and effectiveness of the language used. Comments should be sent to the address listed under the heading ADDRESSES above.

Voluntary Consensus Standards

The National Technology Transfer Act of 1995 (Pub. L. 104-113), requires that Federal agencies use technical standards that are developed or adopted by voluntary consensus standards bodies unless the use of such a standard is inconsistent with applicable law or otherwise impractical. In this proposed rule, the NRC would revise 10 CFR part 30 to add certain requirements for the security of portable gauges containing byproduct material. This action does not constitute the establishment of a standard that contains generally applicable requirements.

Environmental Assessment and Finding of No Significant Environmental Impact

The Commission has determined under the National Environmental Policy Act of 1969, as amended, and the NRC's regulations in Subpart A of 10 CFR part 51, that this proposed rule, if adopted, would not be a major Federal action significantly affecting the quality of the human environment; therefore, an environmental impact statement is not required. The Commission has concluded on the basis of an environmental assessment that these requirements would not have any effects on the environment in which portable gauges are currently regulated under 10 CFR part 30. The proposed rule would increase requirements to prevent the theft of portable gauges containing byproduct material.

The determination of this environmental assessment is that there will be no significant impact on the public from this action. However, the general public should note that the NRC is seeking public participation. Comments on any aspect of this environmental assessment may be submitted to the NRC as indicated under the ADDRESSES heading.

The NRC has sent a copy of the environmental assessment and this proposed rule to every State Liaison Officer and requested their comments on the environmental assessment. The environmental assessment may also be examined at the NRC Public Document Room, Public File Area O1F21, One White Flint North, 11555 Rockville Pike, Rockville, Maryland. Single copies of the environmental assessment are available from Lydia Chang, Office of Nuclear Material Safety and Safeguards, telephone (301) 415-6319, e-mail lwc1@nrc.gov.

Paperwork Reduction Act Statement

This proposed rule does not contain new or amended information collection requirements subject to the Paperwork Reduction Act of 1995 (44 U.S.C. 3501 et seq.). Existing requirements were approved by the Office of Management and Budget, approval number 3150-0017.

Public Protection Notification

The NRC may not conduct or sponsor, and a person is not required to respond to, a request for information or an information collection requirement unless the requesting document displays a currently valid OMB control number.

Regulatory Analysis

The Commission has prepared a draft regulatory analysis on this proposed regulation. The analysis examines the costs and benefits of various alternatives. In addition to the proposed regulation, the NRC staff also considered alternatives such as: prohibiting unattended storage of portable gauges in or on vehicles; prohibiting unattended storage at locations other than licensed facilities; or requiring use of a metal enclosure and a lock with a shielded/protected shackle. However, these alternatives were found to be overly prescriptive and excessively burdensome for most NRC licensees. The option selected is requiring a minimum of two independent physical controls whenever the portable gauge is not under the control and constant surveillance of the licensee. This proposed rule would enhance the current level of security and control (e.g., the requirements in 10 CFR 20.1801 and 20.1802) of portable gauges while providing sufficient flexibility for licensees to implement the requirements without an unreasonable burden.

The Commission requests public comment on the draft regulatory analysis specifically on the costs to licensees. Comments on the draft analysis may be submitted to the NRC as indicated under the ADDRESSES heading. The draft regulatory analysis is available for inspection in the NRC Public Document Room, Public File Area O1F21, One White Flint North, 11555 Rockville Pike, Rockville, Maryland. Single copies of the draft regulatory analysis are available from Lydia Chang, Office of Nuclear Material Safety and Safeguards, telephone (301) 415-6319, e-mail lwc1@nrc.gov.

Regulatory Flexibility Act Certification

As required by the Regulatory Flexibility Act of 1980, 5 U.S.C. 605(b), the Commission certifies that this rule, if adopted, will not have a significant economic impact upon a substantial number of small entities. The proposed rule would affect about 1100 portable gauge specific licensees and an additional 4000 Agreement State specific licensees. These licenses are issued principally to companies involved in road constructions and maintenance. Many portable gauge licensees would qualify as small business entities as defined by 10 CFR 2.810. However, the proposed rule is not expected to have a significant economic impact on these licensees. Based on the draft regulatory analysis conducted for this action, the costs of the proposed amendments for affected licensees are estimated at $200 per gauge. The NRC believes that the selected alternative reflected in the proposed amendment is the least burdensome, most flexible alternative that would accomplish the NRC's regulatory objective. The draft regulatory analysis also notes that the proposed requirements would result in potential cost savings for portable gauge licensees, particularly for the replacement of stolen gauges. These savings would offset the implementation costs for portable gauge licensees. The NRC staff also notes that several Agreement States have imposed similar or more stringent requirements on their portable gauge licensees either by rule, order, or license condition.

Because of the widely differing conditions under which portable gauge users operate, the NRC is specifically requesting public comment from licensees concerning the impact of the proposed regulation. The NRC particularly desires comment from such licensees, who qualify as small businesses, as to how the proposed regulation will affect them and how the regulation may be tiered or otherwise modified to impose less stringent requirements on small entities while still adequately protecting the public health and safety. Comments on how the regulation could be modified to take into account the differing needs of small entities should specifically discuss—

(a) The size of the business and how the proposed regulation would result in a significant economic burden upon it as compared to a larger organization in the same business community;

(b) How the proposed regulation could be further modified to take into account the business's differing needs or capabilities;

(c) The benefits that would accrue, or the detriments that would be avoided, if the proposed regulation was modified as suggested by the commenter;

(d) How the proposed regulation, as modified, would more closely equalize the impact of NRC regulations as opposed to providing special advantages to any individuals or groups; and

(e) How the proposed regulation, as modified, would still adequately protect the public health and safety.

Comments should be submitted as indicated under the ADDRESSES heading.

Backfit Analysis

The NRC has determined that the backfit rules (§§ 50.109, 70.76, 72.62, or 76.76) do not apply to this proposed rule because this amendment would not involve any provisions that would impose backfits as defined in 10 CFR Chapter 1. Therefore, a backfit analysis is not required.

List of Subjects in 10 CFR part 30

Byproduct material, Criminal penalties, Government contracts, Intergovernmental relations, Isotopes, Nuclear materials, Radiation protection, Reporting and recordkeeping requirements.

For the reasons set out in the preamble and under the authority of the Atomic Energy Act of 1954, as amended; the Energy Reorganization Act of 1974, as amended; and 5 U.S.C. 553; the NRC is proposing to adopt the following amendments to 10 CFR part 30.

PART 30—RULES OF GENERAL APPLICABILITY TO DOMESTIC LICENSING OF BYPRODUCT MATERIAL

1. The authority citation for part 30 continues to read as follows:

Authority: Secs. 81, 82, 161, 182, 183, 186, 68 Stat. 935, 948, 953, 954, 955, as amended, sec. 234, 83 Stat. 444, as amended (42 U.S.C. 2111, 2112, 2201, 2232, 2233, 2236, 2282); secs. 201, as amended, 202, 206, 88 Stat. 1242, as amended, 1244, 1246 (42 U.S.C. 5841, 5842, 5846).

Section 30.7 also issued under Pub. L. 95-601, sec. 10, 92 Stat. 2951 as amended by Pub. L. 102-486, sec. 2902, 106 Stat. 3123 (42 U.S.C. 5851). Section 30.34(b) also issued under sec. 184, 68 Stat. 954, as amended (42 U.S.C. 2234). Section 30.61 also issued under sec. 187, 68 Stat. 955 (42 U.S.C. 2237).

2. In § 30.34, paragraph (i) is added to read as follows:

§ 30.34 Terms and conditions of licenses.

* * * * *

(i) Security requirements for portable gauges.Each portable gauge licensee shall use a minimum of two independent physical controls that form tangible barriers to secure portable gauges from unauthorized removal, whenever portable gauges are not under the control and constant surveillance of the licensee.

Dated at Rockville, Maryland, this 28th day of July, 2003.
For the Nuclear Regulatory Commission.
Annette Vietti-Cook,
Secretary of the Commission.

[FR Doc. 03-19588 Filed 7-31-03; 8:45 am]

BILLING CODE 7590-01-P